DEPARTMENT OF TRANSPORTATION

National Highway Traffic Safety Administration

[Docket No. NHTSA-2024-0041]

Agency Information Collection Activities; Submission to the Office of Management and Budget for Review and Approval; Request for Comment; 5-Star Safety Ratings Label Quantitative Concept Testing

AGENCY: National Highway Traffic Safety Administration (NHTSA), Department of Transportation (DOT).

ACTION: Notice and request for comments on a request for approval of a new information collection.

SUMMARY: In compliance with the Paperwork Reduction Act of 1995 (PRA), this notice announces that the Information Collection Request (ICR) summarized below will be submitted to the Office of Management and Budget (OMB) for review and approval. The ICR describes the nature of the information collection and its expected burden. NHTSA is seeking OMB approval for a new information collection to conduct consumer research to enhance the usefulness of vehicle safety rating information and guide the potential redesign of the Government 5-Star Safety Ratings section of the Monroney label (vehicle window sticker). A Federal Register Notice with a 60-day comment period soliciting comments on the following information collection was published on March 7, 2025. NHTSA received three comments.

DATES: Comments must be submitted on or before January 5, 2026.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Mike Joyce, Marketing Specialist, Office of Communications and Consumer Information (NCO-0200), National Highway Traffic Safety Administration, 1200 New Jersey Ave. SE, W52-238, Washington, DC 20590. Mike Joyce's email address is Mike.Joyce@dot.gov. Contact by phone at: 202-366-9550.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: 5-Star Safety Ratings Label Quantitative Concept Testing.

OMB Control Number: New.

Form Number(s): NHTSA Form Nos. 2026, 2027, 2028.

Type of Request: Request for approval of a new information collection.

Type of Review Requested: Regular.

Length of Approval Requested: Three years from date of approval.

Summary of the Collection of Information:

NHTSA is seeking approval of a new information collection request for four information collections that NHTSA will use as part of a one-time study gather data to enhance the usefulness of the safety rating information provided under the New Car Assessment Program (NCAP) and guide the potential redesign of the Government 5-Star Safety Ratings section of the Monroney label.

The one-time research study will include two components. The first component will involve a series of online webcam interviews that will collect qualitative feedback that will be used to improve the content included in the second component, a quantitative survey. Each of the two components will also include a screener questionnaire. The quantitative survey will be administered online and by phone (and potentially supplemented by mail if needed). Participants in the quantitative survey will be asked to evaluate design concepts that contain new information and improvements to the Government 5-Star Safety Ratings section of the Monroney label. The intent is to identify the clearest, most communicative and helpful way to display information related to vehicle safety. NHTSA will use the findings from this research to support planned changes to the label requirements and to inform future consumer communications on vehicle safety ratings and safety technology system performance assessments to assist the public when making vehicle purchasing decisions.

This collection of information will be voluntary. Respondents will include U.S. adult licensed drivers who are shared or primary decision-makers for their households' vehicle purchasing decisions and who are in the “new vehicle purchasing mindset”—that is, they have purchased a new vehicle in the last six months or plan to do so in the next 12 months. Qualitative reporting will deidentify respondents and no personally identifiable information (PII) will be shared with NHTSA. Reports highlighting findings from the qualitative and quantitative research will be delivered to and maintained by NHTSA.

Description of the Need for the Information and Proposed Use of the Information:

The purpose of this research is to obtain critical information that will allow NHTSA and NCAP to fulfill a congressional mandate to improve highway traffic safety. NCAP is responsible for providing consumers with important safety information to assist them in their vehicle purchase decisions. The proposed research will gather necessary data to guide the redesign of the Government 5-Star Safety Ratings section of the Monroney label and enhance the usefulness of that safety rating information. This collection of information will allow NHTSA to obtain critical information to assist the agency in fulfilling the 2015 FAST Act's requirement that NHTSA issue a rule to ensure that crash-avoidance information is provided next to crashworthiness information on vehicle windows stickers.¹ Specifically, the data from this collection will be used to not only enhance consumer understanding of NHTSA's vehicle safety ratings and advanced driver assistance systems performance assessments, but also guide the development of communications that will help consumers as they consider this information in their vehicle purchase decisions.

¹ Section 24322 of Part II—Safety Through Informed Consumers Act of 2015 requires the Secretary of Transportation (NHTSA by delegation) to issue a rule to ensure that crash-avoidance information is indicated next to crashworthiness information on stickers placed on motor vehicles by their manufacturers. Public Law 114-94, December 4, 2015.

60-Day Notice: A Federal Register notice with a 60-day comment period soliciting public comments on the following information collection was published on March 7, 2025.² NHTSA received three comments, two from anonymous commenters and a third from the Alliance for Automotive Innovation (Auto Innovators).

² 90 FR 22571.

NHTSA received comments on a variety of topics, including the urgent need for a revised safety label and the lack of comparative ratings on the existing safety label. NHTSA also received comments asking about the need to conduct additional research after conducting research in 2022. NHTSA also received comments regarding providing environmental information on the label as well as issues regarding diversity, equity, and inclusion. After considering the comments, NHTSA has decided not to make changes to the planned research study and information collection in response to those comments. Detailed responses to the comments are provided in NHTSA's submission to OMB.

Affected Public: U.S. Residents ages 18 years or older with a driver's license, who are a decision-maker for vehicle purchases for their household, and are in the vehicle buying mindset (has either purchased or leased a vehicle in the last six months or is planning to do so in the next 12 months).

Estimated Number of Respondents: Varies by individual collection.

For this information collection, NHTSA plans to conduct an initial cognitive test as a pilot to assess the survey instrument and ensure the content is clear, easy to understand and includes the appropriate questions and response options to evaluate concepts for a new design for the section of the window sticker that contains safety information. The research team will partner with a market research recruiter and will use their proprietary database to find and recruit participants to complete the cognitive test. NHTSA estimates that they will be recruited using online outreach (and supplemented with other forms of outreach such as phone or mail as needed). A total of 9 respondents will participate in the qualitative phase (a cognitive test of the survey instrument). Past experience shows that nine interviews serve as a sufficient number for cognitive testing.

For the quantitative phase, 1,000 respondents will complete an online survey with screening questions.

Frequency: One time for each of the two phases (cognitive test and quantitative survey).

Number of Responses: The quantitative survey will exlude participants from the cognitive test, so each respondent will participate once. The research will collect 9 responses for the cognitive test and 1,000 responses for the quantitative survey resulting in a total of 1,009 responses.

Estimated Total Annual Burden Hours: 708 hours.

Because the number of respondents and the amount of time required is different for each phase of the research, burden estimates are calculated based on each phase and then summed to create a total.

Table 1—Burden Estimates
Research phase | Respondents | Estimated burden per response (min) | Average hourly labor cost (%) | Opportunity cost per submission (%) | Total burden hours (rounded) | Total labor costs (rounded)
Qual Screener Responses | 180 | 5 | $46.29 | $3.86 | 16 | $695
Qual Cognitive Testing | 9 | 60 | 46.29 | 46.29 | 9 | 417
Quant Screening | 10,000 | * 3 | 46.29 | 2.31 | 500 | 23,100
Quant Fielding | 1,000 | 11 | 46.29 | 8.49 | 183 | 8,490
Total |  |  |  |  | 708 | 32,702
* Quant screening is a simplified version of qual screener and does not include demographic questions since key demographic data is provided by the panel with whom we will work; therefore, we estimate 3 minutes for quant screening compared to 5 minutes for qual screening.

Based on projections (708 hours) in the table on the previous page, the estimated total annual opportunity cost associated with the information collection request is $32,702 (rounded).

Estimated Total Annual Burden Cost: $0.

NHTSA does not expect there to be any cost associated with the information collections other than the opportunity cost associated with the time they spend participating in the study.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29A.

Issued on December 3, 2025.
Juliette Marie Vallese,
Associate Administrator, Office of Communications and Consumer Information.

[FR Doc. 2025-22057 Filed 12-4-25; 8:45 am]

BILLING CODE 4910-59-P